DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-005. Applicant: The Pennsylvania State University, EM Facility, The Life Sciences Consortium, 519 Wartik Lab, University Park, PA 16802. Instrument: Slow Scan CCD Camera, Model TemCam F-224. Manufacturer: Tietz Video and Image Processing Systems GmbH, Germany. Intended Use: The instrument is intended to be used to study the following: (1) Organized chromatin domains in yeast minichromosomes, (2) viruses, cell organelles and whole cells, (3) ultrathin sections of tissues, (4) colloids, (5) nanostructures, and (6) biopolymers. Experiments in plant pathology involve the imaging of aphid vector viruses; those in analytical chemistry—barcode patterns built into metal rods during their synthesis via template-directed electrochemical disposition; those in neurochemistry — neurotransmitters in dense core vesicles and others in solid state synthesis—three-dimensional perovskites from two-dimensional precursors. Application accepted by Commissioner of Customs: February 21, 2002.

Docket Number: 02-006. Applicant: Saint Joseph's University, Department of Biology, 5600 City Avenue, Science Center, Philadelphia, PA 19131. Instrument: Electron Microscope, Model JEM-1010. Manufacturer: JEOL, Ltd., Japan. Intended Use: The instrument is intended to be used to examine negative stained bacteria and ultrathin sections of various biological material. Research projects include:

(1) Characterization of the ultrastructural organization of vertebrate and invertebrate retina and associated cells, and cellular structures of a fungus.

(2) Observation of shark endoskeletal structures to characterize patterns of mineralization during development.

(3) Examination of the bacterium, Bdellivibrio bacteriovorus, to study the developmental life cycle.

(4) Qualitative examination of particle morphology and electron diffraction studies of synthesized metal oxides involving the role of metal oxides on the reduction of organic pollutants. Application accepted by Commissioner of Customs: February 22, 2002.

Gerald A. Zerdy,
Program Manager, Statutory Import Programs Staff.

[FR Doc. 02-5471 Filed 3-6-02; 8:45 am]

BILLING CODE 3510-DS-P